DEPARTMENT OF THE INTERIOR

Bureau of Land Management

[ID-075-2822-JL-G172]

Notice of Closure to Livestock Grazing Use and Notice of Intent To Impound

SUMMARY: Effective immediately, the Warm Springs allotment, #05315 is closed to livestock grazing as well as that portion of Houtz Canyon allotment, #05316 north of the Houtz Canyon Road. This closure will remain in effect until March 1, 2003; or until such time as the authorized officer of the Bureau of Land Management (BLM), Malad Resource Area determines the closure may be lifted. This closure is a direct result of a wildfire that burned this area in July of 2000 and subsequent rehabilitation efforts of the BLM. The closure will promote the reestablishment of vegetation on this site and improve the potential for recovery of wildlife and livestock forage.

This notice is also to inform the public and permittees that any unauthorized livestock grazing upon public land or other lands under the BLM's control is in violation of 43 CFR 4140.1(b)(1) and may be impounded. The unauthorized livestock may be impounded after five days from delivery of this notice or any time after five days from publishing and posting this notice. Unauthorized livestock within the Warm Springs and the Houtz Canyon allotments, may be impounded without further notice any time in the 12-month period beginning five days from receipt of this notice as authorized by 43 CFR 4150.4-2. This notice is issued in accordance with 43 CFR 4150.4-1 (a) and (b); any impoundment of unauthorized livestock in connection with this notice will be done in accordance with 43 CFR 4150.4-2. Pursuant to 43 CFR 4150.4-4, any owner or his agent, or both, or lien-holder of record of the impounded livestock may redeem them under these regulations or, if a suitable agreement is in effect, in accordance with State law, prior to the time of sale upon settlement with the United States under Sec. 4150.3 or adequate showing that there has been no violation.

SUPPLEMENTARY INFORMATION: The area of closure is located in the northwestern portion of Rockland Valley, within the above mentioned allotments and more specifically described wholly or partially in T. 10 S., R. 29 E., secs. 12, 13, 24, and 25; T. 10 S., R. 30 E., secs. 7, 18, 19, 20, 28, 29, 30, 31, and 32; Detailed maps of the area closed to livestock grazing are available at the Malad Field Station, Malad, Idaho.

FOR FURTHER INFORMATION CONTACT: The Malad Field Station, 138 S. Main, Malad, ID 83252 or the Pocatello Field Office, 1111 N. 8th Avenue, Pocatello, ID 83201.

Dated: August 28, 2000.
Jeff Steele,
Pocatello Field Manager.

[FR Doc. 00-23281 Filed 9-11-00; 8:45 am]

BILLING CODE 4310-GG-P